DEPARTMENT OF VETERANS AFFAIRS

Advisory Committee on Women Veterans, Notice of Meeting

The Department of Veterans Affairs (VA) gives notice under the Federal Advisory Committee Act, 5 U.S.C. App. 2, that the Advisory Committee on Women Veterans will conduct a site visit on August 19-23, 2013, at the Atlanta VA Medical Center (VAMC), 1670 Clairmont Road, Decatur, Georgia, from 8:30 a.m. each day and will adjourn at 4 p.m. on August 19-22 and at noon on August 23. Meetings are open to the public except when the Committee is off site for VA facility tours. Briefings will take place at the Atlanta VAMC and other local VA facilities. The site visit will include several closed sessions, to protect patient privacy during tours of medical facilities. Closing portions of the sessions are in accordance with 5 U.S.C. 552b(c)(6).

The purpose of the Committee is to advise the Secretary of Veterans Affairs regarding the needs of women Veterans with respect to health care, rehabilitation, compensation, outreach, and other programs and activities administered by VA designed to meet such needs. The Committee makes recommendations to the Secretary regarding such programs and activities.

On August 19, the Committee will convene an open session at the in the Pete Wheeler Auditorium, Room GA104 at the Atlanta VAMC. The agenda will include overview briefings from the Atlanta VA Medical Center leadership and the VA Southeast Network (Veterans Integrated Service Network 7) facilities, programs, demographics and women Veterans programs.

On August 20, the Committee will convene an open session at the in the Bobbie Vance Classroom, Room 3A-197 at the Atlanta VAMC. The Committee will receive briefings from Atlanta VAMC program offices on the Million Veteran Program, the Women Veterans Health Committee, the Women's Health Collaborative Workgroup, trauma recovery, domiciliary care, mental health, and military sexual trauma treatment. The Committee will also visit the Center of Excellence at the East Point Community Based Outpatient Clinic at 1513 Cleveland Avenue, East Point, Georgia, and receive briefings on the residential women Veterans program at Mary Hall Freedom House, patient aligned care teams, and the Women's Health Center of Excellence.

On August 21, the Committee will convene an open session at the in the Pete Wheeler Auditorium, Room GA104 at the Atlanta VAMC. Briefings will cover the Atlanta VAMC's homeless Veterans program, post-deployment health reintegration, caregivers support, and tele-health. In the afternoon, the Committee will convene a closed session as the Committee tours the Atlanta VAMC.

In the morning of August 22, the Committee will convene a closed session as they tour the Trinka Davis Veterans Village, in Carrollton, Georgia and the Marietta Vet Center in Marietta, Georgia. In the afternoon, the Committee will reconvene an open session in the Director's Conference Room at the Atlanta Regional Office (RO), at 1700 Clairmont Road, Decatur, Georgia, to receive briefings on RO business lines and services for women Veterans. A briefing from local Memorial Affairs leadership will also be presented.

On August 23, the Committee will convene an open session at the Courtyard by Marriott Atlanta Decatur Downtown/Emory, 130 Clairemont Avenue, Decatur, Georgia, with Atlanta VAMC leadership, and conduct a town hall meeting with the women Veterans community and other stakeholders. The town hall meeting will begin at 10 a.m.

With the exception of the town hall meeting, there will be no time for public comment during the meeting. Members of the public may submit written statements for the Committee's review to 00W@mail.va.gov, or by fax at (202) 273-7092. Any member of the public wishing to attend or seeking additional information should contact Shannon L. Middleton at (202) 461-6193.

Dated: August 12, 2013.
By Direction of the Secretary.
Vivian Drake,
Committee Management Officer.

[FR Doc. 2013-19911 Filed 8-15-13; 8:45 am]

BILLING CODE P